DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB) where Foreign Travel Management System (FTMS) has been identified as a DOE system that is part of OMB's eGov initiative. Comments are invited on: (a) Whether the extended collection of information is necessary for the proper performance of the functions of the agency, including whether the information shall have practical utility; (b) the accuracy of the agency's estimate of the burden of the proposed collection of information, including the validity of the methodology and assumptions used; and (c) ways to minimize the burden of the collection of information on respondents, including through the use of automated collection techniques or other forms of information technology.

DATES: Comments regarding this proposed information collection must be received on or before 60 days after date of publication in the Federal Register. If you anticipate difficulty in submitting comments within that period, contact the person listed below as soon as possible.

ADDRESSES: Written comments may be sent to Julie Squires by fax at (202) 586-0406 or by e-mail at julie.squires@hq.doe.gov.

FOR FURTHER INFORMATION CONTACT: Requests for additional information or copies of the information collection instrument and instructions should be directed to Julie Squires at julie.squires@hq.doe.gov.

SUPPLEMENTARY INFORMATION: This information collection request contains: (1) OMB No. 1910-1800; (2) Information Collection Request Title: Foreign Travel Management System (FTMS); (3) Type of Review: Renewal; (4) Purpose: FTMS is the Department of Energy's (DOE) centralized web-based system which tracks, records, and secures approval of all travel conducted by DOE federal employees and contractors. The system allows DOE to have full accountability of all travel and in cases of emergency; the Department is able to quickly retrieve information as to who is traveling, where the individual is traveling, and the dates of travel. (5) Respondents: 2,465; (6) Estimated Number of Burden Hours: 5,000.

Statutory Authority: DOE O 551.1C, “Official Foreign Travel”.

Issued in Washington, DC, on June 24, 2008.
Julie Squires,
Acting Director, Office of International Travel and Exchange Visitor Programs.

[FR Doc. E8-21825 Filed 9-17-08; 8:45 am]

BILLING CODE 6450-01-P